DEPARTMENT OF THE INTERIOR

Fish and Wildlife Service

Notice of Intent To Prepare a Comprehensive Conservation Plan and Environmental Assessment for the San Diego National Wildlife Refuge (Otay-Sweetwater Unit and Vernal Pools Stewardship Project), San Diego County, CA

AGENCY: Fish and Wildlife Service, Interior.

ACTION: Notice of intent.

SUMMARY: This notice advises the public that the U.S. Fish and Wildlife Service (Service) intends to gather information necessary to prepare a Comprehensive Conservation Plan (CCP) and an associated environmental assessment for the San Diego National Wildlife Refuge pursuant to the National Wildlife Refuge System Administration Act of 1966, as amended by the National Wildlife Refuge System Improvement Act of 1997 (16 U.S.C. 668dd-668ee et seq), and the National Environmental Policy Act of 1969, as amended (42 U.S.C. 4321-4370d). The Service is providing this notice to advise other agencies, Tribal Governments, and the public of our intentions, and to obtain suggestions and information on the scope of the issues and alternatives to include in the CPP and the environmental document.

DATES: Written comments should be received at the address below no later than July 15, 2006.

Public scoping meetings will be held as follows:

(1) Wednesday, June 14, 2006—2 to 4 p.m., Otay Water District Office, Training Room, 2554 Sweetwater Springs Boulevard, Spring Valley, California

(2) Thursday, June 15, 2006—6:30 p.m. to 8:30 p.m., Jamul Primary School, Multipurpose Room, 14567 Lyons Valley Road, Jamul, California.

ADDRESSES: Please submit comments, questions, and requests for more information regarding the San Diego National Wildlife Refuge CCP or upcoming scoping meetings to: Victoria Touchstone, Refuge Planner, San Diego National Wildlife Refuge Complex, 6010 Hidden Valley Road, Carlsbad, CA 92011; Telephone: 760-431-9440 ext. 349; Fax: 760-930-0256; Electronic mail: Victoria_Touchstone@fws.gov. Additional information is also available at http://sandiegorefuges.fws.gov, click on Comprehensive Conservation Plans.

SUPPLEMENTARY INFORMATION: The National Wildlife Refuge System Administration Act of 1966, as amended, requires the Service to develop a Comprehensive Conservation Plan (CCP) for each National Wildlife Refuge. The purpose for developing a CCP is to provide refuge managers with a 15-year strategy for achieving refuge purposes and contributing toward the mission of the National Wildlife Refuge System (Refuge System), consistent with sound principles of fish and wildlife science, conservation, legal mandates, and Service policies. The CCP process will involve establishing goals, long-range objectives, and strategies for achieving refuge purposes, developing and evaluating management alternatives, and providing priority consideration for wildlife-dependent recreational uses including hunting, fishing, wildlife observation, photography, environmental education, and interpretation.

The San Diego National Wildlife Refuge (Refuge) was established in 1996 under the authority of the Endangered Species Act of 1973, as amended. The Refuge's approved acquisition boundary, which includes both the Otay-Sweetwater Unit and Vernal Pools Stewardship Project, encompasses approximately 52,080 acres. Approximately 8,280 acres within the acquisition boundary have been acquired by the Service to date. These lands are located at the eastern edge of the San Diego metropolitan area in southwestern San Diego County, generally between northeastern Chula Vista and the communities of Jamul, Dehesa, and Crest.

The primary purposes of the Refuge are to contribute to the recovery of endangered, threatened, and rare species, such as the Quino checkerspot butterfly, California gnatcatcher, and San Diego mesa mint; to support the native biodiversity of the southwestern San Diego Region by contributing to the development of a regional preserve under the San Diego Multiple Species Conservation Program; and to provide opportunities for compatible wildlife-dependent recreation.

The Refuge has not been officially opened for public use, but does provide potential opportunities for wildlife-dependent recreational uses including hunting, fishing, wildlife observation, photography, environmental education, and interpretation. All potential public uses on the Refuge will be evaluated for compatibility with Refuge purposes and the mission of the Refuge System. These Compatibility Determinations will be conducted during the CCP process and a written record of the determination will be provided for public review and comment as an appendix to the future Draft CCP/EA.

Comments and concerns received during this scoping process will be used to help identify key issues, develop goals, establish habitat management and public use strategies, and draft management alternatives. Additional opportunities for public participation will occur throughout the planning process, and details about these opportunities will be provided in special mailings, newspaper articles, and other announcements. Involvement and input from interested federal, state, and local agencies, Tribal governments, organizations, and individuals is encouraged. We expect to have the draft CCP/EA completed and made available for public review in summer 2007 and the CCP process completed by 2008.

Steve Thompson,
Manager, California/Nevada Operations Office, Sacramento, California.

[FR Doc. E6-7911 Filed 5-23-06; 8:45 am]

BILLING CODE 4310-55-P